COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Information and Regulatory Affairs (“OIRA”), of the Office of Management and Budget (“OMB”), for review and comment. The ICR describes the nature of the information collection and its expected costs and burden.

DATES: Comments must be submitted on or before August 13, 2025.

ADDRESSES: Written comments and recommendations for the proposed information collection should be submitted within 30 days of this notice's publication to OIRA, at https://www.reginfo.gov/public/do/PRAMain. Please find this particular information collection by selecting “Currently under 30-day Review—Open for Public Comments” or by using the website's search function. Comments can be entered electronically by clicking on the “comment” button next to the information collection on the “OIRA Information Collections Under Review” page, or the “View ICR—Agency Submission” page. A copy of the supporting statement for the collection of information discussed herein may be obtained by visiting https://www.reginfo.gov/public/do/PRAMain.

In addition to the submission of comments to https://Reginfo.gov as indicated above, a copy of all comments submitted to OIRA may also be submitted to the Commodity Futures Trading Commission (the “Commission” or “CFTC”) by clicking on the “Submit Comment” box next to the descriptive entries for OMB Control No. 3038-0070, at https://comments.cftc.gov/FederalRegister/PublicInfo.aspx.

Or by either of the following methods:

• Mail: Christopher Kirkpatrick, Secretary of the Commission, Commodity Futures Trading Commission, Three Lafayette Centre, 1155 21st Street NW, Washington, DC 20581.

• Hand Delivery/Courier: Same as Mail above.

All comments must be submitted in English, or if not, accompanied by an English translation. Comments submitted to the Commission should include only information that you wish to make available publicly. If you wish the Commission to consider information that you believe is exempt from disclosure under the Freedom of Information Act, a petition for confidential treatment of the exempt information may be submitted according to the procedures established in § 145.9 of the Commission's regulations.¹ The Commission reserves the right, but shall have no obligation, to review, pre-screen, filter, redact, refuse or remove any or all of your submission from https://www.cftc.gov that it may deem to be inappropriate for publication, such as obscene language. All submissions that have been redacted or removed that contain comments on the merits of the ICR will be retained in the public comment file and will be considered as required under the Administrative Procedure Act and other applicable laws, and may be accessible under the Freedom of Information Act.

¹ 17 CFR 145.9.

FOR FURTHER INFORMATION CONTACT: Owen J. Kopon, Division of Market Oversight, at (202) 418-5360 or okopon@cftc.gov; or Isabella Bergstein, Division of Market Oversight, at (202) 993-1384 or ibergstein@cftc.gov, and refer to OMB Control No. 3038-0070.

SUPPLEMENTARY INFORMATION:

Title: “Real-Time Public Reporting” (OMB Control No. 3038-0070). This is a request for revision of a currently approved information collection.

Abstract: Pursuant to section 2(a)(13) of the Commodity Exchange Act (“CEA”), the Commission is authorized and required to promulgate regulations for the real-time public reporting of swap transaction and pricing data.² Part 43 of the Commission's regulations implements the real-time public reporting rules. The collection of information is needed to ensure that swap data repositories publicly disseminate swap data as required by the Commodity Exchange Act, as amended by the Dodd-Frank Wall Street Reform and Consumer Protection Act (“Dodd-Frank Act”). The Dodd-Frank Act directed the CFTC to adopt rules providing for the real-time public reporting and dissemination of swap data and rules for block trades.

² 7 U.S.C. 2(a)(13)(E).

In 2020, the Commission amended part 43 by issuing the Real-Time Public Reporting Requirements final rule (“2020 RTR Final Rule”).³ The 2020 RTR Final Rule revised the method and timing of real-time reporting and public dissemination, generally and for specific types of swaps; the delay and anonymization of the public dissemination of block trades and large notional trades; the standardization and validation of real-time reporting fields; the delegation of specific authority to Commission staff; and the clarification of specific real-time reporting questions and common issues.⁴

³ Real-Time Public Reporting Requirements, 85 FR 75422 (Nov. 25, 2020).

⁴ Id.

On June 10, 2022, the Commission staff issued a Staff Advisory on Reporting of Errors and Omissions in Previously Reported Data (“Advisory”),⁵ which included a form as an Appendix (“Form”). The Advisory specifies the format and manner for submitting information required under regulations 45.14 and 43.3(e), and accordingly amended Information Collection 3038-0070. Subsequently, the Commission has updated its estimate of the burdens associated with OMB Control No. 3038-0070.

⁵ CFTC Letter 22-06.

An agency may not conduct or sponsor, and a person is not required to respond to, a collection of information unless it displays a currently valid OMB control number.⁶ On May 9, 2025, the Commission published in the Federal Register notice of the proposed extension of this information collection and provided 60 days for public comment on the proposed extension, 90 FR 19685 (“60-Day Notice”). The Commission did not receive any relevant comments on the 60-Day Notice.

⁶ 44 U.S.C. 3512, 5 CFR 1320.5(b)(2)(i) and 1320.8(b)(3)(vi).

Burden Statement: Provisions of CFTC Regulations 43.3, 43.3(e), 43.4, and 43.6 result in information collection requirements within the meaning of the PRA. With respect to the ongoing reporting and recordkeeping burdens associated with swaps, the CFTC believes that SDRs, SDs, MSPs, SEFs, DCMs, DCOs, and non-SD/MSP/DCO counterparties incur an annual time-burden of 803,142 hours. This time-burden represents a proportion of the burden respondents incur to operate and maintain their swap data recordkeeping and reporting systems.

Respondents/Affected Entities: SDRs, SDs, MSPs, and other counterparties to swap transaction (i.e., non-SD/MSP/DCO counterparties).

Estimated number of respondents: 1,742.

Estimated average burden hours per respondent: 461.

Estimated total annual burden hours on respondents: 803,142.

Frequency of Collection: Ongoing.

(Authority: 44 U.S.C. 3501 et seq.)

Dated: July 10, 2025.
Robert Sidman,
Deputy Secretary of the Commission.

[FR Doc. 2025-13125 Filed 7-11-25; 8:45 am]

BILLING CODE 6351-01-P